CONSUMER PRODUCT SAFETY COMMISSION

[Docket No. CPSC-2012-0055]

Submission for OMB Review; Comment Request—Flammability Standards for Children's Sleepwear

AGENCY: Consumer Product Safety Commission.

ACTION: Notice.

SUMMARY: Pursuant to the Paperwork Reduction Act of 1995 (44 U.S.C. Chapter 35), the Consumer Product Safety Commission (Commission or CPSC) announces that it has submitted to the Office of Management and Budget (OMB) a request for extension of approval of a collection of information associated with the flammability standards for children's sleepwear and implementing regulations.

DATES: Written comments on this request for extension of approval of information collection requirements should be submitted by January 25, 2013.

ADDRESSES: To ensure that comments on the information collection are received, the OMB recommends that written comments be faxed to the Office of Information and Regulatory Affairs, OMB, Attn: CPSC Desk Officer, FAX: 202-395-6974, or emailed to oira_submission@omb.eop.gov. All comments should be identified by Docket No. CPSC-2012-0055. In addition, written comments also should be submitted at http://www.regulations.gov, under Docket No. CPSC-2012-0055, or by mail/hand delivery/courier (for paper, disk, or CD-ROM submissions), preferably in five copies, to: Office of the Secretary, U.S. Consumer Product Safety Commission, Room 820, 4330 East West Highway, Bethesda, MD 20814; telephone (301) 504-7923. For access to the docket to read background documents or comments received, go to http://www.regulations.gov.

FOR FURTHER INFORMATION CONTACT: Robert H. Squibb, U.S. Consumer Product Safety Commission, 4330 East West Highway, Bethesda, MD 20814; Telephone: 301-504-7923 or by email to rsquibb@cpsc.gov.

SUPPLEMENTARY INFORMATION: In the Federal Register of October 4, 2012, and October, 17, 2012, (77 FR 60684, 77 FR 63799) the Consumer Product Safety Commission (CPSC or Commission) published a notice in accordance with provisions of the Paperwork Reduction Act of 1995 (44 U.S.C. Chapter 35) to announce the CPSC's intention to seek extension of approval of collections of information in the flammability standards for children's sleepwear and implementing regulations. No comments were received in response to that notice. Therefore, by publication of this notice, the Commission announces that it has submitted to the Office of Management and Budget (OMB) a request for extension of approval of that collection of information without change.

The standards and regulations are codified as the Standard for the Flammability of Children's Sleepwear: Sizes 0 Through 6X, 16 CFR part 1615; and the Standard for the Flammability of Children's Sleepwear: Sizes 7 Through 14, 16 CFR part 1616. The flammability standards and implementing regulations prescribe requirements for testing and recordkeeping by manufacturers and importers of children's sleepwear subject to the standards. The information in the records required by the regulations allows the Commission to determine if items of children's sleepwear comply with the applicable standard. This information also enables the Commission to obtain corrective actions if items of children's sleepwear fail to comply with the applicable standard in a manner that creates a substantial risk of injury.

We estimate that about 83 firms manufacture or import products subject to the two children's sleepwear flammability standards. These firms may perform an estimated 2,000 tests each, which take up to 3 hours per test. We estimate that these standards and implementing regulations will impose an average annual burden of about 6,000 hours on each of those firms (2,000 tests × 3 hours). That burden will result from conducting the testing required by the standards and maintaining records of the results of that testing mandated by the implementing regulations. The total annual burden imposed by the standards and regulations on all manufacturers and importers of children's sleepwear will be about 498,000 hours (83 firms × 6,000). The annual cost to the industry is estimated to be $30,751,500, based on an hourly wage of $61.75 (Bureau of Labor Statistics: Total compensation for management, professional, and related workers in goods-producing private industries: http://www.bls.gov/ncs) × 498,000 hours.

Dated: December 20, 2012.
Todd A. Stevenson,
Secretary, Consumer Product Safety Commission.

[FR Doc. 2012-30993 Filed 12-21-12; 4:15 pm]

BILLING CODE 6355-01-P